DEPARTMENT OF COMMERCE

National Oceanic and Atmospheric Administration

RIN 0648-XF371

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two day meeting of its Ad Hoc Red Snapper Private Recreational Advisory Panel (AP).

DATES: The meeting will convene on Monday, May 8, 2017, from 8:30 a.m. to 5 p.m. and Tuesday, May 9, 2017, from 8:30 a.m. to 4 p.m., CDT.

ADDRESSES: The meeting will be held at the DoubleTree Hotel, located at 300 Canal Street, New Orleans, LA 70130; telephone: (504) 581-1300. Council address: Gulf of Mexico Fishery Management Council, 2203 N. Lois Avenue, Suite 1100, Tampa, FL 33607; telephone: (813) 348-1630.

FOR FURTHER INFORMATION CONTACT: Dr. John Froeschke, Fishery Biologist-Statistician, Gulf of Mexico Fishery Management Council; john.froeschke@gulfcouncil.org, telephone: (813) 348-1630.

SUPPLEMENTARY INFORMATION: The charge of this AP is to provide recommendations to the Council on private recreational red snapper management measures which would (1) provide more quality access to the resource in federal waters, (2) reduce discards, and (3) improve fisheries data collection.

I. Agenda and Introduction

II. Background

a. Council and Fishery Management Process

b. Red Snapper Private Recreational Management

III. Panel Discussion

a. Red Snapper Management

IV. Looking Back, Looking Forward

V. Recreational Angler Participation Session

VI. Gulf Angler Focus Group Report

VII. Recreational Round Table

VIII. Panel Discussion

a. Defining Objectives of Red Snapper Management

b. Discussion and Evaluation of Management Options to Improve Access

IX. Recommendations to the Council

X. Election of Chair and vice-Chair

Meeting Adjourns—

The meeting will be broadcast via webinar. You may register for Ad Hoc Red Snapper Private Recreational AP on May 8-9, 2017 at: https://attendee.gotowebinar.com/register/752478651748328450.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “Ad Hoc Red Snapper Private Rec AP meeting-2017-05”.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: April 18, 2017.
Tracey L. Thompson,
Acting Deputy Director, Office of Sustainable Fisheries, National Marine Fisheries Service.

[FR Doc. 2017-08126 Filed 4-20-17; 8:45 am]

BILLING CODE 3510-22-P